FEDERAL DEPOSIT INSURANCE CORPORATION

12 CFR Part 345

Community Reinvestment

CFR Correction

In Title 12 of the Code of Federal Regulations, Parts 300 to 499, revised as of January 1, 2011, on page 457, in § 345.12, paragraph (u)(1) is revised to read as follows:

§ 345.12 Definitions.

* * * * *

(u) * * *

(1) Definition. Small bank means a bank that, as of December 31 of either of the prior two calendar years, had assets of less than $1.122 billion. Intermediate small bank means a small bank with assets of at least $280 million as of December 31 of both of the prior two calendar years and less than $1.122 billion as of December 31 of either of the prior two calendar years.

* * * * *

[FR Doc. 2011-33529 Filed 12-28-11; 8:45 am]

BILLING CODE 1505-01-D